DEPARTMENT OF HEALTH AND HUMAN SERVICES

Centers for Disease Control and Prevention

[30Day-15-15DH]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Division of Community Health (DCH) Awardee Training Needs Assessment—New—National Center for Chronic Disease Prevention and Health Promotion (NCCDPHP), Centers for Disease Control and Prevention (CDC).

Background and Brief Description

The Centers for Disease Control and Prevention (CDC) established the Division of Community Health (DCH) to support multi-sector, community-based programs that promote healthy living. To support these efforts, DCH announced two new cooperative agreement programs in 2014, as authorized by the Public Health Service Act. Both programs will apply public health strategies to reduce tobacco use and exposure, improve nutrition, increase physical activity, and improve access to opportunities for chronic disease prevention, risk reduction, and management.

The Partnerships to Improve Community Health (PICH) program (Funding Opportunity Announcement (FOA) DP14-1417) will promote the use of evidence- and practice-based strategies to create or strengthen healthy environments that make it easier for people to make healthy choices and take charge of their health. The 39 PICH awardees include both state and local governmental agencies and nongovernmental organizations. Awardees will work through multi-sector community coalitions of businesses, schools, nonprofit organizations, and other community organizations. Projects will serve three types of geographic areas: Large cities and urban counties, small cities and counties, and American Indian tribes.

The new Racial and Ethnic Approaches to Community Health (REACH) cooperative agreement (FOA DP14-1419PPHF14) builds on previous REACH program activities that began in 1999 with a focus on racial and ethnic communities experiencing health disparities. The 49 new REACH awardees include local governmental agencies, community-based nongovernmental organizations, tribes and tribal organizations, Urban Indian Health Programs, and tribal and intertribal consortia. Of these awardees, 17 are receiving funds for basic implementation activities, and 32 are receiving funds to immediately expand their scope of work to improve health and reduce health disparities. REACH is financed in part by the Prevention and Public Health Fund of the Affordable Care Act.

CDC proposes to collect information needed to assess and prioritize the training needs of PICH and REACH awardees and key collaborators. A DCH Training Needs Assessment survey will be conducted at two points in time: once near the beginning of the project period (approximately third quarter of 2015) and again in the second year of the project period (last quarter of 2016). The first administration of the survey will provide an initial assessment of awardee needs at program start-up. The second administration of the needs assessment will identify any new or modified training needs that arise as awardees progress in their cooperative agreement activities. Questions within the needs assessment focus on awardee preferences for training modalities as well as facilitators and barriers to training access.

Respondents will be staff members and coalition members associated with the 88 DCH awardees. Information will be requested from four individuals affiliated with each award: The principal investigator or program manager, the lead evaluation staff member, the lead media/communications staff member, and a coalition member. The maximum number of respondents is 352 (88 awardees × 4 respondents/awardee). Because the REACH and PICH awards aim to promote collaborative, multi-sector efforts, respondents will be associated with both private sector entities and state, local, and tribal government entities.

The same survey instrument will be administered to all respondents, however the estimated burden per response varies according to the respondent's project role and responsibilities. Information will be collected using a Web-based platform. Data collection and management will be conducted by a contractor on behalf of CDC. A telephone interview option is available for respondents who prefer this mode of participation.

Findings will enable DCH to develop appropriate training activities that best support awardees' community efforts to fulfill their funded objectives.

OMB approval is requested for two years. Participation is voluntary and there are no costs to respondents other than their time. The total estimated annualized burden hours are 237.

Estimated Annualized Burden Hours
Type of respondent | Number of respondents | Number of responses per respondent | Average burden per response
Private Sector Respondents Associated with PICH or REACH Awards:
Principal Investigator | 24 | 1 | 50/60
Program Manager | 23 | 1 | 50/60
Evaluation Lead | 47 | 1 | 30/60
Media/Communication Lead | 47 | 1 | 20/60
Coalition Member | 88 | 1 | 1
State/Local/Tribal Government Sector Respondents Associated with PICH or REACH Awards:
Principal Investigator | 21 | 1 | 50/60
Program Manager | 20 | 1 | 50/60
Evaluation Lead | 41 | 1 | 30/60
Media/Communication Lead | 41 | 1 | 20/60

Leroy A. Richardson,
Chief, Information Collection Review Office, Office of Scientific Integrity, Office of the Associate Director for Science, Office of the Director, Centers for Disease Control and Prevention.

[FR Doc. 2015-09085 Filed 4-20-15; 8:45 am]

BILLING CODE 4163-18-P